DEPARTMENT OF AGRICULTURE

Office of Energy Policy and New Uses

7 CFR Part 2902

RIN 0503-AA26

Guidelines for Designating Biobased Products for Federal Procurement

AGENCY: Office of Energy Policy and New Uses, USDA.

ACTION: Notification of public meeting.

SUMMARY: The Office of Energy Policy and New Uses is announcing a public meeting to discuss the proposed rule entitled “Guidelines for Designating Biobased Products for Federal Procurement” published in the Federal Register of December 19, 2003 (68 FR 70730). This meeting is intended to provide stakeholders and interested parties with a briefing on the proposed rule and an opportunity to ask questions and make comments on the proposed rule.

DATES: The public meeting will be held on Thursday, January 29, 2004, from 9 a.m. to noon and 1 p.m. to 4:30 p.m., Eastern Standard Time. Registration will occur on site on Thursday, January 29, 2004, beginning at 8 a.m.

ADDRESSES: The meeting will be held in the Jefferson Auditorium of the U.S. Department of Agriculture, 1400 Independence Avenue, SW., Washington, DC 20250.

A written transcript of the meeting and submitted comments will be available for viewing at the USDA Office of Energy Policy and New Uses, Reporters Building, Room 361, 300 7th Street, SW., Washington, DC, 20024, between the hours of 8 a.m. and 4 p.m., Eastern Standard Time, Monday through Friday.

FOR FURTHER INFORMATION CONTACT: Marvin Duncan, Office of Energy Policy and New Uses, U.S. Department of Agriculture, Reporters Building, Room 361, 300 7th Street SW., Washington, DC 20024, 202-401-0532, FAX: 202-401-0533, or e-mail; fb4p@oce.usda.gov.

SUPPLEMENTARY INFORMATION:

I. Background

Section 9002 o9f the Farm security and Rural Investment Act (FSRIA) of 2002, 7 U.S.C. 8102, authorizes a program of preferred procurement of biobased products by Federal agencies. The proposed rule published in the Federal Register of December 19, 2003 (68 FR 70730) sets out the structure for implementing the program of preferred procurement of biobased products by Federal agencies.

The public meeting will provide an opportunity to brief stakeholders and interested parties on the proposed rule and allow them to ask questions about the proposed rule. The meeting also will provide an opportunity for stakeholders and others to offer public comments on the proposed rule.

The meeting will be video streamed in real time to enable stakeholders and other interested parties not attending the meeting in person to observe the discussion that takes place at the meeting. The video web streaming can be accessed by a hot link at the Current Issues Box on the Home Page of the Web site http://www.biobased.oce.usda.gov. The video web streaming can also be accessed on the USDA Home Page at http://www.usda.gov. During the meeting, members of the public can fax questions or public comments on the proposed rule to fax number (202) 720-9553. Alternatively, questions or public comments can also be e-mailed to the meeting at fb4p@oce.usda.gov. A transcript of the meeting, for the hearing impaired, will be prepared soon after the meeting is completed and posted on the Web site www.biobased.oce.usda.gov.

Agenda: The daylong meeting will have two sessions: The morning session will include a presentation on the major provisions of the proposed rule and a panel of government officials will respond to questions for clarification of the proposed rule.

In the afternoon session, public comments on the rule will be received. All public comments must include a printed text of the comment, identify the commenter, and provide contact information. Public comments may be faxed to the meeting site during the meeting using the fax number 202-720-9553. Alternatively, public comments can be e-mailed to the meeting at fb4p@oce.usda.gov.

To provide public comments on the proposed rule outside of the announced stakeholder meeting, please follow the instructions in the Addresses section of the proposed rule (68 FR 70730, December 19, 20030.

There is no registration fee for this meeting. Because the meeting will be held in a Federal building, you should bring a photo ID and plan for adequate time to pass through security screening systems.

II. Electronic Access

You can access the proposed rule, as published in the Federal Register, on the Web site http://www.biobased.oce.usda.gov.

III. Transcripts

The video web streaming of the meeting will be available to be viewed on the Web site www.biobased.oce.usda.gov for approximately 40 days after the date of the stakeholder meeting. The transcript of the meeting and submitted comments will be available for public examination at the USDA Office of Energy Policy and New Uses, Reporters Building, Room 361, 300 7th Street, SW., Washington, DC, 20024, between the hours of 8 a.m. to 4 p.m. eastern standard time, Monday through Friday.

Dated: January 20, 2004.
Keith Collins,
Chief Economist, USDA.

[FR Doc. 04-1552 Filed 1-23-04; 8:45 am]

BILLING CODE 3410-GL-M